DEPARTMENT OF ENERGY

Federal Energy Regulatory Commission

[Project No. 7253-016]

Ampersand Sebec Lake Hydro, LLC; Dichotomy Sebec Lake Hydro, LLC; Notice of Transfer of Exemption

1. On January 2, 2020, Ampersand Sebec Lake Hydro, LLC exemptee for the Sebec Hydroelectric Project No. 7253, filed a letter notifying the Commission that the project was transferred from Ampersand Sebec Lake Hydro, LLC to Dichotomy Sebec Lake Hydro, LLC. The exemption from licensing was originally issued on September 26, 1983.¹ The project is located on Sebec River in Pistaquis County, Maine. The transfer of an exemption does not require Commission approval.

¹ Sebec Hydro Company, 24 FERC 62,364 (1983). The project was transferred to Ampersand Sebec Lake Hydro, LLC on November 30, 2007.

2. Dichotomy Sebec Lake Hydro, LLC is now the exemptee of the Sebec Hydroelectric Project No. 7253. All correspondence must be forwarded to: Mr. Ian Clark, Dichotomy Sebec Lake Hydro, LLC, 65 Ellen Ave, Mahopac, NY 10541, Email: ianc@dichotomycapital.com.

Dated: January 13, 2020.
Kimberly D. Bose,
Secretary.

[FR Doc. 2020-00963 Filed 1-21-20; 8:45 am]

BILLING CODE 6717-01-P